DEPARTMENT OF TRANSPORTATION

Coast Guard

46 CFR Parts 2, 30, 31, 52, 61, 71, 90, 91, 98, 107, 110, 114, 115, 125, 126, 132, 133, 134, 167, 169, 175, 176, 188, 189, 195, and 199

[USCG-1999-4976]

RIN 2115-AF73

Frequency of Inspection

AGENCY: Coast Guard, DOT.

ACTION: Final rule.

SUMMARY: The Coast Guard amends its vessel inspection regulations to introduce a 5-year Certificate of Inspection cycle in accordance with the Coast Guard Authorization Act of 1996 to harmonize our inspections with most internationally required certificates. This rulemaking is necessary for the following reasons: to align inspection schedules with international protocols; to establish an examination process giving industry additional latitude in scheduling inspections; and to create a parity between small passenger vessels and all other Coast Guard-inspected vessels. The Coast Guard expects this rule to result in a reduction in the time and paperwork associated with Coast Guard vessel inspections for certification.

DATES: This final rule is effective February 4, 2000.

ADDRESSES: Comments and material received from the public, as well as documents mentioned in this preamble as being available in the docket, are part of docket USCG-1999-4976 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: For questions on this rule, call Lieutenant Commander Don Darcy, Office of Standards Evaluation and Development (G-MSR-2), Coast Guard, telephone 202-267-1200. For questions on viewing the docket, call Dorothy Walker, Chief, Dockets, Department of Transportation, telephone 202-366-9329.

SUPPLEMENTARY INFORMATION:

Regulatory History

On November 15, 1999, we published a notice of proposed rulemaking (NPRM) entitled “Frequency of Inspection, Alternate Hull Examination Program for Certain Vessels, and Underwater Surveys for Passenger, Nautical School, and Sailing School Vessels” in the Federal Register (64 FR 62018). We received 49 letters commenting on the proposed rule. Several comments requested a public hearing, mainly concerning the provisions of the Alternate Hull Examination and Underwater Survey Programs. We do not plan to hold a public hearing on the frequency of inspection requirements in this rule.

Background and Purpose

Our review of the comments to the NPRM revealed strong public interest in the Alternate Hull Examination and Underwater Survey portions of this rulemaking. As a result of this public interest, we have decided to create a new docket (USCG-2000-6858) entitled, “Alternate Hull Examination Program for Certain Passenger Vessels, and Underwater Surveys for Passenger, Nautical School, and Sailing School Vessels,” and re-examine the provisions concerning the Alternate Hull Examination and Underwater Survey programs. Comments to the NPRM concerning the Alternate Hull Examination and Underwater Survey Programs will be included in the new docket. Therefore, you do not need to resubmit any comments already submitted to the NPRM.

This final rule only establishes a 5-year Certificate of Inspection cycle to harmonize our inspections with internationally required certificates. We are publishing the final rule to establish the frequency of inspection requirements to meet the International Convention for the Safety of Life at Sea, 1974 and the International Convention on Load Line compliance date of February 3, 2000.

Frequency of Inspection

On October 31, 1988, the International Maritime Organization (IMO) convened the International Conference on the Harmonized Systems of Survey and Certification to adopt the Protocol of 1988 relating to the International Convention for Safety of Life at Sea (SOLAS), 1974, and the Protocol of 1988 relating to the International Convention on Load Lines, 1966. By adopting these 1988 Protocols, IMO standardized the term of validity for certificates and intervals for vessel inspections required by the Conventions. These 1988 Protocols will enter into force as international law on February 3, 2000. As party to the SOLAS Convention, and the International Convention on Load Lines, the U.S. ratified the 1988 Protocol on July 1, 1991. Section 605 of the Coast Guard Authorization Act of 1996, Public Law 104-324, codified at Title 46 of the United States Code (U.S.C.) section 3307 was amended to require vessel inspections for certification once a year or once every 5 years, depending on vessel type. Previously, vessels were inspected for certification once a year, or once every 2 or 3 years, depending on vessel type.

This rulemaking aligns the term of validity for a Certificate of Inspection (COI) and the type of inspections required during the term of the COI with the standards prescribed in the 1974 SOLAS Convention. Adopting a 5-year COI, with interval annual inspections, and a periodic inspection will ensure that U.S. vessels meet international standards and comply with international law. These changes will also provide vessel owners and operators with more flexibility to schedule required inspections and reduce paperwork associated with these inspections.

Discussion of Comments and Changes

The following is a summary of the comments we received concerning the frequency of inspection section to the NPRM, and the changes made to the regulatory text in response to those comments.

General

(1) Six comments expressed support for the Coast Guard initiative to bring certification and inspection requirements in line with international standards. Three comments pointed out that the changes make good economic sense and go a long way to eliminating inspection creep.

(2) One comment stated that issuing 5-year certificates will minimize the number of vessels operating on temporary certificates and eliminate burdensome paperwork.

We envisioned a reduction in the use of temporary certificates as a result of the changes in this rule. However, we may initially have to issue COIs with a validity of less than 5 years to coincide with the dates of the 5-year SOLAS and the International Convention on Load Lines documents.

(3) Two comments stated that the 45-day comment period was too short and leaves the Coast Guard with little time to evaluate public comment. One comment noted the short amount of time between the end of the comment period and the February 3, 2000, compliance date for international requirements.

We agree that the 45-day comment period may have been too optimistic for proposed changes concerning the Alternate Hull Examination and Underwater Survey programs. For this reason, we are taking additional time to evaluate the provisions on these programs. However, we have thoroughly considered all comments for the frequency of inspection provisions. We determined that harmonizing our inspections with internationally required certificates will lessen the burden and create greater flexibility for industry.

(4) One comment opposed the extension of the inspection period for small passenger vessels. The comment recommended increasing frequency of inspections or providing better training to Coast Guard inspectors. The comment suggests that increasing the period between inspections reduces the time inspectors are on the boats and increases the risk of catastrophic failure.

The changes in this rule will not extend the inspection period. Inspections of vessels will continue to be conducted annually. Only the issuance of the COI and term of validity is being changed by this project. In addition, annual inspections can be as extensive as the attending marine inspector deems necessary. Annual inspections could be more extensive due to the condition of the vessel or problems found with the vessel. The issue of training for Coast Guard inspectors is outside the scope of this rulemaking.

(5) One comment pointed out that the NPRM did not mention how the Coast Guard would phase-in the new inspection cycle. The comment asks whether all COI renewals after the effective date of the final rule will reflect the new requirements.

A NVIC is being developed in conjunction with this rulemaking to provide guidance on how to transition a vessel from the current survey and certification system to the harmonized system. The date of introduction of the harmonized system of survey and certification for a specific U.S. flag vessel should be agreed upon between the owner or operator and the cognizant Officer in Charge, Marine Inspection (OCMI). This agreed upon date may be the date of drydocking or the date of repairs or renovation. In any case, the date would not be later than the latest expiration date of the vessel's SOLAS, International Convention on Load Lines, or International Convention for the Prevention of Pollution from Ships (MARPOL) certificates. (As of February 3, 2000, MARPOL certificates will be issued with a 5-year term of validity.) Vessels with 2 or 3-year COIs, not required to have SOLAS certificates, will be issued a 5-year COI when their current COI expires and upon completion of that inspection for certification.

Anniversary Date

(6) One comment suggested that a constant anniversary date will make harmonization with the new COI schedule and drydock dates very difficult. The comment emphasizes that regulatory events should meld with the business cycle of vessels, which includes a credit drydock. The comment also requests the Coast Guard to clarify whether a vessel will retain its anniversary date when it has been taken out of service and then brought back into service.

This rulemaking only affects the anniversary date of the COI to harmonize with international standards. The vessel owner or operator should discuss harmonizing drydock dates with COIs when they speak with the OCMI to establish the COI anniversary date. For vessels taken out of service, their anniversary date will not change unless their deactivation extends beyond the validity of SOLAS, International Convention on Load Lines, or International Convention for the Prevention of Pollution from Ships (MARPOL) certificates or COIs.

Applicability

(7) One comment pointed out that oil spill response vessels (OSRVs) and oil spill response barges are not included in the regulations. The comment recommended that these vessels be addressed in some manner.

OSRVs are inspected under subchapter I, Cargo and Miscellaneous Vessels. The revisions to subchapter I in this final rule apply to OSRVs.

(8) One comment stated that the Coast Guard should include offshore supply vessels (OSVs) into the regulations.

Offshore supply vessels are addressed in 46 CFR subchapter L of the Coast Guard's regulations. This final rule amends the inspection and certification requirements for OSVs in 46 CFR 126.50, 126.420, 126.510, 126.520, and 126.530.

Equipment and System Inspections

(9) Four comments pointed out the importance of aligning equipment and system inspections with the 5-year inspection cycle. One comment stated that the alignment of pressure vessel inspections with the 5-year inspection for certification is a welcomed change.

(10) Three comments noted that in § 61.05-10 the regulations still require boiler inspections every 2.5 years and would prevent an owner from selecting the third anniversary option for a periodic inspection.

In Table 61.05-10, Inspection Intervals for Boilers, footnote number 2 explains that an entry of 2.5 in the table means “two tests or inspections must occur within any 5-year period, and no more than 3 years may elapse between any test or inspection and its immediate predecessor.” Footnote number 2 allows owners or operators to select the third anniversary options for boiler inspections.

Inspection Creep

(11) One comment recommended that the Coast Guard should not grant a 3-month extension beyond the anniversary date without the approval of the OCMI. The OCMI needs the ability to disqualify substandard vessels from automatic 3-month extensions.

The 3-month extension is actually a 3-month window on either side of the anniversary date for the annual or periodic inspections. This extension does not apply beyond the validity of the COI. In addition, the OCMI retains the authority to limit the operations or require corrective action due to the condition of the vessel at anytime during the validity of the COI.

(12) One comment suggested that, in order to completely eliminate inspection creep, the wording in §§ 31.05-10, 91.01-10, 107.211, 126.250, 169.207, and 189.01-10 should be changed to permit the new COI to be dated “5 years from the date of the previous COI,” instead of from the date of inspection.

We determined that the effect the proposed change in the comment would keep vessels out of harmonization with international standards. For vessels not wishing to harmonize with the international standards, their COIs will be dated 5 years from the date of the previous COI. In order to harmonize with SOLAS certificates, the period of validity will be based on the current COI date to eliminate inspection creep. The flexibility of establishing an anniversary date is discussed in the response to comment 5 and in a NVIC we are currently developing.

(13) Another comment recommended that owners have a one-time opportunity to “reset” the expiration date by renewing the current COI early or by requesting a period of validity of less than 5 years on an initial COI.

We agree that a one-time opportunity to “reset” the expiration date or to request a COI for less than 5-years will allow for harmonization and eliminate inspection creep. As previously stated, the Coast Guard is developing policy guidance in a NVIC on the transition from the current survey and certification system to the harmonized system.

(14) Two comments recommended expressing the expiration date with the month and year only. One comment suggested that there is still a problem if an operator renews a COI before the expiration date of the last COI. The new date would still be earlier than the last COI date.

We disagree. The possibility of inspection creep still exists with only the month and year as the expiration date of the COI.

Mobile Offshore Drilling Units (MODUs)

(15) One comment recommended that the Coast Guard modify the inspection interval of load tests for cranes in § 107.361 to 5 years to conform to IMO and Coast Guard policy.

We agree that load tests for cranes should coincide with IMO and Coast Guard inspection intervals. Title 46 CFR 107.260 contains the requirements for the load test for cranes. We are amending 46 CFR 107.260(c)(2) to extend the interval for the load test for cranes from 48 months to 60 months.

Periodic Inspections

(16) One comment recommended that the Coast Guard eliminate periodic inspections and require four annual inspections during each 5-year cycle for COI. The comment also noted that periodic inspections are not required by SOLAS or U.S. law.

We disagree. Period inspections are part of the SOLAS system and the newly adopted 1988 protocols. Periodic inspections are an integral part of standardizing the term of validity for certificates and intervals for vessel inspections required by the IMO.

Streamlined Inspection Program (SIP) and Alternate Compliance Program (ACP)

(17) Six comments noted that the NPRM did not discuss the impact of the proposed changes on the Alternate Compliance Program (ACP) and the Streamlined Inspection Program (SIP). These comments requested that the Coast Guard clarify how the proposed rule would impact vessels in the SIP and ACP programs. One comment recommended that vessels enrolled in these programs should not be required to undergo annual inspections, only the inspection for certification.

Vessels enrolled in the ACP and SIP programs will be able to have a third party complete their inspections. The changes in this rule will have no effect on the ACP and SIP program. We disagree that vessels in the ACP and SIP programs should be allowed to avoid annual inspections.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979). A final Regulatory Evaluation under paragraph 10e of the regulatory policies and procedures of DOT follows:

This rulemaking affects a total of 10,973 vessels. Of these, 5,531 vessels are required to change from a 2-year to a 5-year inspection interval. The following types of vessels have 2-year certificates: freight barges, freight ships, mobile offshore drilling units (MODUs), industrial vessels, oceanographic research vessels, offshore supply vessels, sailing school vessels, seagoing towing vessels, tank barges, and tank ships. The remaining vessels (5,442) are small passenger vessels that will change from a 3-year to a 5-year inspection interval.

Potential benefits of the frequency of inspection changes include—

• A harmonized inspection system enabling vessel owners and operators to receive their COI, SOLAS certificates, and Load Line Certificates simultaneously;

• Increased flexibility for vessel owners and operators by establishing up to a 3 month window on either side of the COI anniversary date in which to conduct inspections; and

• A reduction in the burden placed on vessel owners decreasing the time expended on required inspections. For the next 30 years, we estimate an annual burden reduction of 35 minutes per vessel for those in the previous 2-year COI cycle, and for vessels with previous 3-year COIs we expect an annual burden reduction of 13.5 minutes per vessel.

We considered whether this rule would have an impact on the currently assessed annual vessel inspection fees. The Coast Guard considers the impact to be minimal; and therefore, will have a negligible effect on the annual vessel inspection fee schedule. Accordingly, this rule does not change annual vessel inspection fees. However, we will initiate a rulemaking later this year that will reassess annual vessels inspection fees, and will account for all market condition changes.

Although this rulemaking restructures the inspection process, vessels will continue to be inspected once per year.

Potential benefits of changes made to load test for cranes include a reduction in the burden placed on MODU owners. MODUs will load test their cranes every five years instead of every four years. We estimate that the 132 MODUs will have an annual burden reduction of 1 hour 12 minutes per MODU for the next 20 years. MODUs usually contract a company to perform the load tests for cranes.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule does not increase costs to any of the affected vessels and, therefore, does not increase cost to small entities. We estimate this rule slightly reduces their burden by requiring less time expended on inspections. The anticipated benefits of this rulemaking to small entities are as follows:

• Requiring a COI certificate once every 5 years instead of every 2 or 3 years reduces the collection-of-information burden for all portions of the affected populations of the industry, including small entities. We determined that this rule reduces the collection-of-information burden over a 30-year period.

• The inspection cycle aligns better with international standards, enabling vessel owners and operators to complete several major inspections and surveys at the same time. This allows small businesses to reduce their inspection cost and increase their productivity.

• Requiring annual inspections that are less time consuming reduces the number of total inspection hours per vessel. The purpose of annual inspections is to examine specific areas of concern on vessels between the COI and periodic inspections.

• The inspection cycle for small passenger vessels (changing from a 3-year to a 5-year inspection for certification interval) will not include a periodic inspection. After careful consideration, we determined that periodic inspections for small passenger vessels increase industry's burden for each inspection by an estimated 7 minutes per vessel annually. Therefore, the rule only requires COI and annual inspections, reducing the inspection burden from for all small passenger vessels.

Therefore, the Coast Guard certifies under 5 U.S.C. 605(b) that this final rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for two collections of information under the Paperwork Reduction Act of 1995 (44 U.S.C. 3501-3520). The information collection requirements of the rule are addressed in the previously approved OMB collections 2115-0007 and 2115-0133.

OMB Collection 2115-0007

Title: Application for Vessel Inspection and Waiver.

Summary of the Collection of Information: The rule requires vessel owners and operators to change the frequency in which they send an “Application for Inspection of U.S. Vessel (CG-3752)”. These changes revise the previously approved OMB Collection 2115-0007. This collection of information is affected by changes in the following sections: 46 CFR 31.01-15, 91.25-5, 126.420, 169.205, and 189.25-5.

Need for Information: This rulemaking reduces the paperwork burden for affected vessels. Vessel owners or operators are required to send an application (CG-3752) to schedule an inspection for renewal of a Certificate of Inspection once every 5 years, rather than every 2 or 3 years.

Proposed Use of Information: The application provides the Coast Guard with basic vessel information which is necessary for the initial planning and scheduling of inspection.

Description of the Respondents: This rule affects respondents who previously had 2- or 3-year inspection intervals for their vessel's Certificate of Inspection (COI). This rule implements a 5-year inspection interval. Previous 2-year COI vessel classes include freight barges, freight ships, industrial vessels, mobile offshore drilling units, oceanographic research vessels, offshore supply vessels, seagoing tows, tank barges, and tank ships. Previous 3-year COI vessel classes include small passenger vessels.

Number of Respondents: The regulation affects 10,973 respondents that currently have 2- or 3-year inspection intervals.

Frequency of Response: Vessel owners need to respond once per COI period. Completing and mailing the application constitutes a response. The Coast Guard anticipates that 2,195 vessels per year will get new COIs under the new 5-year inspection interval (10,973 respondents affected by this rule/5 years).

Burden of Response: The annual hour burden created by the posting of COIs for vessels with 5-year COIs is 549 hours (2,195 COI/Year × 0.25 hours). We expect operators to need 15 minutes at most to complete and mail the application.

Estimate of Total Annual Burden: The annual burden attributed to this collection for vessels with a 5-year COI is $21,960 (549 hours × the private industry wage rate of $40 per hour).

OMB Collection 2115-0133

Title: Various Forms and Posting Requirements Under Title 46 CFR Concerning Vessel Inspections.

Summary of the Collection of Information: This rule requires vessel owners and operators to change the frequency in which they post COIs on vessels. This change revises and amends the previously approved OMB Collection 2115-0133.

This collection of information is affected by the changes in the following sections: 46 CFR 31.05-10, 91.01-10, 107.211, 115.107, 126.250, 169.207, 176.107, and 189.01-10.

Need for Information: This rulemaking reduces the paperwork burden for affected vessels. Vessel owners or operators will renew Certificates of Inspection once every 5 years, rather than every 2 or 3 years. An application for a Certificate of Inspection is necessary to allow a Coast Guard inspector to evaluate the condition of a specific vessel and to ensure it is fit for the service for which it is intended.

Proposed Use of Information: The Coast Guard uses the inspection for certification to evaluate the condition of a specific vessel and to ensure it is fit for the service for which it is intended. The COI attests to that fitness.

Description of the Respondents: This rule affects respondents who currently have 2-year and 3-year COI interval. The rule implements a 5-year inspection interval. Previous 2-year COI vessel classes include freight barges, freight ships, industrial vessels, MODUs, oceanographic research vessels, offshore supply vessels, seagoing tows, tank barges, and tank ships. Previous 3-year COI vessel classes include small passenger vessels.

Number of Respondents: The regulation affects 10,973 respondents that currently have 2- or 3-year inspection intervals.

Frequency of Response: Vessel owners need to respond once per COI period. The posting of the certificate constitutes a response. The Coast Guard anticipates that 2,195 vessels will get new COIs per year under the new 5-year inspection interval (10,973 respondents/5 years).

Burden of Response: The estimated annual hour burden created by this regulation is 1,098 hours (2,195 COI per year × 0.5 hours). We expect operators to need 30 minutes to post the certificate on each ship.

Estimate of Total Annual Burden: The annual burden attributed to this rulemaking is $43,920 (1,098 hours times the private industry wage rate of $40 per hour).

Public Comments on Collection of Information: As required by 44 U.S.C. 3507(d), we have submitted a copy of this rule to the Office of Management and Budget (OMB) for its review of the collection of information. The sections are 46 CFR 31.01-15, 31.05-10, 91.01-10, 91.25-5, 107.211, 115.107, 126.250, 126.420, 169.205, 169.207, 176.107, 189.01-10, and 189.25-5 46; and the corresponding approval numbers from OMB are OMB Control Numbers 2115-0007 and 2115-0133.

You are not required to respond to a collection of information unless it displays a currently valid OMB control number.

Federalism

We have analyzed this rule under E.O. 13132 and have determined that it does not have implications for federalism under that Order.

Unfunded Mandates Reform Act

The Unfunded Mandates Reform Act of 1995 (2 U.S.C. 1531-1538) requires Federal agencies to assess the effects of their regulatory actions not specifically required by law. In particular, the Act addresses actions that may result in expenditure by a State, local, or tribal government, in the aggregate, or by the private sector of $100,000 or more in any one year. Though this rule will not result in such an expenditure, we do discuss the effects of this rule elsewhere in this preamble.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

This rule deals exclusively with changing inspection intervals and providing voluntary dry-docking alternatives for certain passenger vessels. We considered the environmental impact of this rule and concluded that under figure 2-1, paragraph (34)(d), of Commandant Instruction M16475.1C, this rule is categorically excluded from further environmental documentation. A “Categorical Exclusion Determination” is available in the docket where indicated under ADDRESSES.

List of Subjects

46 CFR Part 2

Marine safety, Reporting and recordkeeping requirements, Vessels.

46 CFR Part 30

Cargo vessels, Foreign relations, Hazardous materials transportation, Penalties, Reporting and recordkeeping requirements, Seamen.

46 CFR Part 31

Cargo vessels, Marine safety, Reporting and recordkeeping requirements.

46 CFR Part 52

Reporting and recordkeeping requirements, Vessels.

46 CFR Part 61

Reporting and recordkeeping requirements, Vessels.

46 CFR Part 71

Marine safety, Passenger vessels, Reporting and recordkeeping requirements.

46 CFR Part 90

Cargo vessels, Marine safety.

46 CFR Part 91

Cargo vessels, Marine safety, Reporting and recordkeeping requirements.

46 CFR Part 98

Cargo vessels, Hazardous materials transportation, Marine safety, Reporting and recordkeeping requirements, Water pollution control.

46 CFR Part 107

Marine safety, Oil and gas exploration, Reporting and recordkeeping requirements, Vessels.

46 CFR Part 110

Reporting and recordkeeping requirements, Vessels.

46 CFR Part 114

Marine safety, Passenger vessels, Reporting and recordkeeping requirements.

46 CFR Part 115

Fire prevention, Marine safety, Passenger vessels, Reporting and recordkeeping requirements.

46 CFR Part 125

Administrative practice and procedure, Authority delegation, Hazardous materials transportation, Marine safety, Offshore supply vessels, Oil and gas exploration, Vessels.

46 CFR Part 126

Authority delegation, Hazardous materials transportation, Marine safety, Offshore supply vessels, Oil and gas exploration, Reporting and recordkeeping requirements, Vessels.

46 CFR Part 132

Fire prevention, Hazardous materials transportation, Marine safety, Offshore supply vessels, Oil and gas exploration, Vessels.

46 CFR Part 133

Marine safety, Occupational safety and health, Oil and gas exploration, Reporting and recordkeeping requirements, Vessels.

46 CFR Part 134

Hazardous materials transportation, Marine safety, Offshore supply vessels, Oil and gas exploration, Provisions for liftboats, Vessels.

46 CFR Part 167

Fire prevention, Marine safety, Reporting and recordkeeping requirements, Schools, Seamen, Vessels.

46 CFR Part 169

Fire prevention, Marine safety, Reporting and recordkeeping requirements, Schools, Vessels.

46 CFR Part 175

Marine safety, Passenger vessels, Reporting and recordkeeping requirements.

46 CFR Part 176

Fire prevention, Marine safety, Passenger vessels, Reporting and recordkeeping requirements.

46 CFR Part 188

Marine safety, Oceanographic research vessels.

46 CFR Part 189

Marine safety, Oceanographic research vessels, Reporting and recordkeeping requirements.

46 CFR Part 195

Marine Safety, Navigation (water), Oceanographic research vessels.

46 CFR Part 199

Cargo vessels, Marine safety, Oil and gas exploration, Passenger vessels.

For the reasons discussed in the preamble, the Coast Guard amends 46 CFR parts 2, 30, 31, 52, 61, 71, 90, 91, 98, 107, 110, 114, 115, 125, 126, 132, 133, 134, 167, 169, 175, 176, 188, 189, 195, and 199 as follows:

PART 2—VESSEL INSPECTIONS

1. Revise the authority citation for part 2 to read as follows:

Authority: 33 U.S.C. 1903; 43 U.S.C. 1333; 46 U.S.C. 3103, 3205, 3306, 3307, 3703; E.O. 12334, 45 FR 58801, 3 CFR, 1980 Comp., p. 277; 49 CFR 1.46; subpart 2.45 also issued under the authority of Act Dec. 27, 1950, Ch. 1155, secs. 1, 2, 64 Stat. 1120 (see 46 U.S.C. App. note prec. 1).

§ 2.01-3 [Amended]

2. In § 2.01-3(a), remove the words, “, but less than 60 days,”.

§ 2.01-5 [Amended]

3. In § 2.01-5(a), remove paragraphs (a)(3) and (4).

§ 2.01-8 [Amended]

4. In § 2.01-8(b), remove “§ 176.35-1” and add, in its place, “§§ 115.900 and 176.900”.

5. In § 2.01-25—

a. Remove paragraph (a)(1)(v) and redesignate paragraphs (a)(1)(vi) through (viii) as paragraphs (a)(1)(v) through (vii), respectively;

b. In paragraph (b)(1), immediately following the words “subchapter I (Cargo and Miscellaneous Vessels),” add the words “subchapter K (Small Passenger Vessels Carrying more than 150 Passengers or with overnight accommodations for more than 49 Passengers), subchapter L (Offshore Supply Vessels),”; and

c. Revise paragraphs (a)(4), (b)(2), (e)(2), and (f) to read as follows:

§ 2.01-25 International Convention for Safety of Life at Sea, 1974.

(a) * * *

(4) The Federal Communications Commission will issue the following certificates:

(i) Cargo Ship Safety Radio Certificate.

(ii) Exemption Certificate.

* * * * *

(b) * * *

(2) For vessels other than passenger vessels, you must contact the local office of the Federal Communications Commission to apply for the inspection concerning the issuance of a Cargo Ship Safety Radio Certificate.

* * * * *

(e) * * *

(2) The Federal Communications Commission issues the Exemption Certificate, which modifies the Cargo Ship Safety Radio Certificate.

(f) Availability of Certificates. The Convention certificates must be on board the vessel and readily available for examination at all times.

* * * * *

PART 30—GENERAL PROVISIONS

6. Revise the authority citation for part 30 to read as follows:

Authority: 46 U.S.C. 2103, 3306, 3307, 3703; 49 U.S.C. 5103, 5106; 49 CFR 1.45, 1.46; Section 30.01-2 also issued under the authority of 44 U.S.C. 3507; Section 30.01-5 also issued under the authority of Sec. 4109, Pub. L. 101-380, 104 Stat. 515.

7. Add § 30.10-2a to read as follows:

§ 30.10-2a Anniversary date—TB/ALL.

The term anniversary date means the day and the month of each year, which corresponds to the date of expiration of the Certificate of Inspection.

PART 31—INSPECTION AND CERTIFICATION

8. Revise the authority citation for part 31 to read as follows:

Authority: 33 U.S.C. 1321(j); 46 U.S.C. 2103, 3205, 3306, 3307, 3703; 49 U.S.C. 5103, 5106; E.O. 12234, 45 FR 588013 CFR, 1980 Comp., p. 277; E.O. 12777, 56 FR 54757, 3 CFR, 1991 Comp., p. 351; 49 CFR 1.46. Section 31.10-21 also issued under the authority of Sect. 4109, Pub. L. 101-380, 104 Stat. 515.

§ 31.01-1 [Amended]

9. In § 31.01-1(a), remove the words “biennially, annually,” and add, in their place, the words “every 5 years”.

10. In § 31.01-15, revise the section heading and paragraph (a) to read as follows:

§ 31.01-15 Application for a Certificate of Inspection—TB/ALL.

(a) You must submit a written application for an inspection for certification to the cognizant OCMI. To renew a Certificate of Inspection, you must submit an application at least 30 days before the expiration of the tank vessel's current Certificate of Inspection. When renewing a Certificate of Inspection, you must schedule an inspection for certification within the 3 months before the expiration date of the current Certificate of Inspection.

* * * * *

11. In Section 31.05-10, revise the section heading and paragraph (a) to read as follows:

§ 31.05-10 Period of validity for a Certificate of Inspection—TB/ALL.

(a) A Certificate of Inspection is valid for 5 years.

* * * * *

12. In § 31.10-15, revise paragraph (a) and add paragraph (c) to read as follows:

§ 31.10-15 Inspection for Certification—TB/ALL.

(a) After receiving an application for inspection, the OCMI will inspect a tank vessel in his or her jurisdiction once every 5 years. The OCMI will ensure that every tank vessel is of a structure suitable for the carriage of flammable and/or combustible liquids in bulk and for the proper grade or grades of cargo the vessel carries while in service. If the OCMI deems it necessary, he or she may direct the vessel to be put in motion, and may adopt any other suitable means to test the tank vessel and its equipment.

* * * * *

(c) If the vessel passes the inspection for certification, the OCMI will issue a new Certificate of Inspection.

13. Revise § 31.10-17 to read as follows:

§ 31.10-17 Annual and periodic inspections—TB/ALL.

(a) Annual inspection. Your vessel must undergo an annual inspection within 3 months before or after each anniversary date, except as specified in paragraph (b) of this section.

(1) You must contact the cognizant OCMI to schedule an inspection at a time and place which he or she approves. No written application is required.

(2) The scope of the annual inspection is the same as the inspection for certification but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your vessel's current Certificate of Inspection.

(3) If the annual inspection reveals deficiencies in your vessel's maintenance, you must make any or all repairs or improvements within the time period specified by the OCMI.

(4) Nothing in this subpart limits the marine inspector from conducting such tests or inspections he or she deems necessary to be assured of the vessel's seaworthiness.

(b) Periodic inspection. Your vessel must undergo a periodic inspection within 3 months before or after the second or third anniversary of the date of your vessel's Certificate of Inspection. This periodic inspection will take the place of an annual inspection.

(1) You must contact the cognizant OCMI to schedule an inspection at a time and place which he or she approves. No written application is required.

(2) The scope of the periodic inspection is the same as that for the inspection for certification, as specified in § 31.10-15(b). The OCMI will ensure that the vessel is in satisfactory condition and fit for the service for which it is intended. If your vessel passes the periodic inspection, the marine inspector will endorse your vessel's current Certificate of Inspection.

(3) If the periodic inspection reveals deficiencies in your vessel's maintenance, you must make any or all repairs or improvements within the time period specified by the OCMI.

(4) Nothing in this subpart limits the marine inspector from conducting such tests or inspections he or she deems necessary to be assured of the vessel's seaworthiness.

14. Add § 31.10-17a to read as follows:

§ 31.10-17a Certificate of Inspection: Conditions of validity.

To maintain a valid Certificate of Inspection, you must complete your annual and periodic inspections within the periods specified in § 31.10-17 (a) and (b) and your Certificate of Inspection must be endorsed.

§ 31.10-18 [Amended]

15. In § 31.10-18—

a. In paragraph (d), remove the words “biennially by” and add, in their place, the words “at the inspection for certification and the periodic inspection by” and remove the words “Prior to the biennial inspection” and add, in their place, the words “Before the inspection for certification and periodic inspection”;

b. In paragraph (e), immediately following the words “inspection for certification” add the words “, periodic inspection,”; and

c. In paragraph (h), immediately following the words “inspection for certification” add the words “, periodic inspection,”.

§ 31.40-1 [Amended]

16. In § 31.40-1, immediately following the words “international voyage.” add the words “(See § 30.01-6 of this chapter.)”.

17. Revise § 31.40-15 to read as follows:

§ 31.40-15 Cargo Ship Safety Radio Certificate—T/ALL.

Every tankship equipped with a radio installation on an international voyage must have a Cargo Ship Safety Radio Certificate. Each radio installation must meet the requirements of the Federal Communication Commission and the International Convention for Safety of Life at Sea.

18. Revise § 31.40-35 to read as follows:

§ 31.40-35 Availability of Certificates.

The Convention certificates shall be on board the vessel and readily available for examination at all times.

19. Revise § 31.40-40 to read as follows:

§ 31.40-40 Duration of Convention certificates—T/ALL.

(a) The following certificates are valid for a period of not more than 60 months.

(1) A Cargo Ship Safety Construction Certificate.

(2) A Cargo Ship Safety Equipment Certificate.

(3) A Safety Management Certificate.

(4) A Cargo Ship Safety Radio Certificate.

(b) An Exemption certificate must not be valid for longer than the period of the certificate to which it refers.

(c) A Convention certificate may be withdrawn, revoked, or suspended at any time when it is determined that the vessel is no longer in compliance with applicable requirements. (See § 2.01-70 of this chapter for procedures governing appeals.)

PART 52—POWER BOILERS

20. Revise the authority citation for part 52 to read as follows:

Authority: 46 U.S.C. 3306, 3307, 3703; E.O. 12234, 45 FR 58801, 3 CFR, 1980 Comp., p. 277; 49 CFR 1.46.

§ 52.01-50 [Amended]

21. § 52.01-50(k)(1), immediately following the words “inspection for certification” add the words “, periodic inspection”.

PART 61—PERIODIC TESTS AND INSPECTIONS

22. Revise the authority citation for part 61 to read as follows:

Authority: 43 U.S.C. 1333; 46 U.S.C. 2103, 3306, 3307, 3703; E.O. 12234, 45 FR 58801, 3 CFR 1980 Comp., p. 277; 49 CFR 1.46.

§ 61.05-10 [Amended]

23. In § 61.05-10, in Table 61.05-10, remove the letters “COI”, wherever they appear, and add, in their place, the number “2.5”; and, in Table 61.05-10, in footnote number 1, remove the words “; where COI is used, the intervals coincide with the applicable vessel's inspection for certification”.

24. In § 61.10-5, revise paragraphs (c), (h), and (i) to read as follows:

§ 61.10-5 Pressure vessels in service.

* * * * *

(c) Special purpose vessels.

(1) If your vessel's Certificate of Inspection is renewed annually, the following must be examined under operating conditions at each inspection for certification: all tubular heat exchangers, hydraulic accumulators, and all pressure vessels used in refrigeration service.

(2) If your vessel's Certificate of Inspection is renewed less often than annually, the following must be examined under operating conditions twice every 5 years: all tubular heat exchangers, hydraulic accumulators, and all pressure vessels used in refrigeration service.

(3) No more than 3 years may elapse between any examination and its immediate predecessor.

* * * * *

(h) Pneumatic tests.

(1) Pressure vessels that were pneumatically tested before being stamped with the Coast Guard Symbol must be examined internally twice every 5 years and examined externally at each Inspection for Certification. No more than 3 years may elapse between any external examination and its immediate predecessor.

(2) For tanks whose design precludes a thorough internal or external examination, the thickness must be determined by a nondestructive method acceptable to the Officer in Charge, Marine Inspection.

(3) If (due to the product carried) your vessel's inspection intervals are prescribed in subchapter D (Tank Vessels), subchapter I (Cargo and Miscellaneous Vessels), or subchapter I-A (Mobile Offshore Drilling Units), you must comply with the pneumatic test regulations there, instead of the ones in this section.

(i) Safety or relief valves on pressure vessels.

(1) If your vessel's Certificate of Inspection is renewed annually, the marine inspector must check the settings of the safety or relief valves on all pressure vessels, except cargo tanks, at each inspection for certification.

(2) If your vessel's Certificate of Inspection is renewed less often than annually, the marine inspector must check the settings of the safety or relief valves on all pressure vessels, except cargo tanks, twice every 5 years. No more than 3 years may elapse between any check and its immediate predecessor.

(3) Cargo tank safety or relief valves must be checked at the interval required in subchapter D (Tank Vessels) or subchapter I (Cargo and Miscellaneous Vessels) of this chapter.

§ 61.15-5 [Amended]

25. In § 61.15-5(c), immediately following the words “inspection for certification” add the words “for vessels whose Certificates of Inspection are renewed each year. For other vessels, the setting must be checked twice within any 5-year period, and no more than 3 years may elapse between any check and its immediate predecessor”.

§ 61.15-10 [Amended]

26. In § 61.15-10(a), remove the words “and at each inspection for certification” and add, in their place, the words “, at each inspection for certification, and at each periodic inspection”.

§ 61.15-12 [Amended]

27. In § 61.15-12(a), immediately following the words “inspection for certification” add the words “and periodic inspection”.

28. Revise § 61.20-1(a) to read as follows:

§ 61.20-1 Steering gear.

(a) The marine inspector must inspect the steering gear at each inspection for certification for vessels whose Certificate of Inspections are renewed each year. For other vessels, the marine inspector must inspect the steering gear twice within a 5-year period, and no more than 3 years may elapse between any inspection and its immediate predecessor. The marine inspector may inspect the steering gear more often, if necessary.

* * * * *

§ 61.20-3 [Amended]

29. In § 61.20-3, in paragraph (a), immediately following the words “inspection for certification” add the words “and periodic inspection”; and, in paragraph (b), immediately following the words “inspection for certification” add the words “and periodic inspection”.

§ 61.30-15 [Amended]

30. In § 61.30-15, immediately following the words “inspection for certification” add the words “, periodic inspection”.

§ 61.30-20 [Amended]

31. In § 61.30-20, immediately following the words “inspection for certification” add the words “, periodic inspection”.

PART 71—INSPECTION AND CERTIFICATION

32. Revise the authority citation for part 71 to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; 49 CFR 1.46.

33. Add § 71.25-5(b) to read as follows:

§ 71.25-5 When made.

* * * * *

(b) You must submit your application for the annual inspection at least 30 days before your current certificate of inspection expires.

PART 90—GENERAL PROVISIONS

34. Revise the authority citation for part 90 to read as follows:

Authority: 46 U.S.C. 3306, 3307, 3703; 49 U.S.C. 5103, 5106; E.O. 12234, 45 FR 58801, 3 CFR, 1980 Comp., p. 277; 49 CFR 1.46.

§§ 90.10-1 and 90.10-2 [Redesignated as §§ 90.10-2 and 90.10-3]

35. Redesignate §§ 90.10-1 and 90.10-2 as §§ 90.10-2 and 90.10-3 respectively and add § 90.10-1 to read as follows:

§ 90.10-1 Anniversary date.

The term anniversary date means the day and the month of each year, which corresponds to the date of expiration of the Certificate of Inspection.

PART 91—INSPECTION AND CERTIFICATION

36. Revise the authority citation for part 91 to read as follows:

Authority: 33 U.S.C. 1321(j); 46 U.S.C. 3205, 3306, 3307; E.O. 12234; 45 FR 58801; 3 CFR, 1980 Comp., p. 277; E.O. 12777, 56 FR 54757, 3 CFR, 1991 Comp., p. 351; 49 CFR 1.46.

§ 91.01-10 [Amended]

37. In § 91.01-10—

a. In the section heading, immediately following the word “validity” add the words “for a Certificate of Inspection”;

b. In paragraph (a), remove the words “periods of either 1 or 2 years” and add, in their place, the words “a period of 5 years”; and

c. In paragraph (c)(2), remove the words “2 years” and add, in their place, the words “5 years”.

38. Revise § 91.25-5 to read as follows:

§ 91.25-5 Application for a Certificate of Inspection.

You must submit a written application for an inspection for certification to the cognizant Officer in Charge, Marine Inspection. To renew a Certificate of Inspection, you must submit an application at least 30 days before the expiration of the tank vessel's current certificate. You must use Form CG-3752, Application for Inspection of U.S. Vessel, and submit it to the Officer in Charge, Marine Inspection at, or nearest to, the port where the vessel is located. When renewing a Certificate of Inspection, you must schedule an inspection for certification within the 3 months before the expiration date of the current Certificate of Inspection.

39. Revise § 91.25-20(a) introductory text to read as follows:

§ 91.25-20 Fire-extinguishing equipment.

(a) At each inspection for certification, periodic inspection and at other times necessary, the inspector will determine that all fire-extinguishing equipment is in suitable condition and may require any tests necessary to determine the condition of the equipment. The inspector will determine if the tests and inspections required by § 91.15-60 of this subchapter have been conducted. At each inspection for certification and periodic inspection, the inspector will check fire-extinguishing equipment with the following tests and inspections:

* * * * *

§ 91.25-25 [Amended]

40. In § 91.25-25(a), immediately following the words “inspection for certification” add the words “and periodic inspection”.

§ 91.25-38 [Amended]

41. In § 91.25-38, immediately following the words “inspection for certification” add the words “and periodic inspection”.

§ 91.25-40 [Amended]

42. In § 91.25-40, immediately following the words “inspection for certification” add the words “and periodic inspection”.

§ 91.25-45 [Amended]

43. In § 91.25-45, immediately following the words “inspection for certification” add the words “and periodic inspection”.

Subpart 91.27—Annual and Periodic Inspections

44. In subpart 91.27, revise the subpart heading to read as set forth above.

45. Revise § 91.27-1 to read as follows:

§ 91.27-1 Annual and periodic inspections.

(a) Annual inspection. Your vessel must undergo an annual inspection within the 3 months before or after each anniversary date, except as required in paragraph (b) of this section.

(1) You must contact the cognizant Officer in Charge, Marine Inspection to schedule an inspection at a time and place which he or she approves. No written application is required.

(2) The scope of the annual inspection is the same as the inspection for certification as specified in § 91.25-10 but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(3) If the annual inspection reveals deficiencies in your vessel's maintenance, you must make any or all repairs or improvements within the time period specified by the Officer in Charge, Marine Inspection.

(4) Nothing in this subpart limits the marine inspector from conducting such tests or inspections he or she deems necessary to be assured of the vessel's seaworthiness.

(b) Periodic inspection. Your vessel must undergo a periodic inspection within 3 months before or after the second or third anniversary of the date of your vessel's Certificate of Inspection. This periodic inspection will take the place of an annual inspection.

(1) You must contact the cognizant Officer in Charge, Marine Inspection to schedule an inspection at a time and place which he or she approves. No written application is required.

(2) The scope of the periodic inspection is the same as that for the inspection for certification, as specified in § 91.25-10. The Officer in Charge, Marine Inspection will insure that the vessel is in satisfactory condition and fit for the service for which it is intended. If your vessel passes the periodic inspection, the marine inspector will endorse your current Certificate of Inspection.

(3) If the periodic inspection reveals deficiencies in your vessel's maintenance, you must make any or all repairs or improvements within the time period specified by the Officer in Charge, Marine Inspection.

(4) Nothing in this subpart limits the marine inspector from conducting such tests or inspections he or she deems necessary to be assured of the vessel's seaworthiness.

46. Revise § 91.27-5 to read as follows:

§ 91.27-5 Certificate of Inspection: Conditions of validity.

To maintain a valid Certificate of Inspection, you must complete your annual and periodic inspections within the periods specified in § 91.27-1 (a) and (b) and your Certificate of Inspection must be endorsed.

§ 91.27-10 [Removed]

47. Remove § 91.27-10.

48. Revise § 91.27-13 to read as follows:

§ 91.27-13 Alternative annual inspection for offshore supply vessels less than 400 gross tons in foreign ports.

(a) The owner or operator of an offshore supply vessel of less than 400 gross tons, except liftboats as defined in § 90.10-20 of this chapter, may request authorization to conduct an alternative annual inspection in place of the annual inspection described in § 91.27-1(a) of this chapter. You must submit your request to the Officer in Charge, Marine Inspection responsible for conducting inspections in the country in which the vessel is operating and will be examined. To qualify for the alternative annual inspection, you must meet the following requirements:

(1) The request for authorization must be in writing and received by the cognizant Officer in Charge, Marine Inspection before the end of the twelfth month of each COI anniversary year.

(2) The vessel is expected to be continuously employed outside of the United States during the 3 months before and after each anniversary date of the issuance of the COI.

(b) In determining whether to grant authorization for the alternative annual inspection, the Officer in Charge, Marine Inspection will consider the following:

(1) Information contained in previous inspection and drydock examination reports, including the Officer in Charge, Marine Inspection's recommendation for participation in the alternative midperiod examination program, and the alternative annual inspection program.

(2) The nature, number, and severity of any marine casualties or accidents, as defined in § 4.03-1 of this chapter, which the vessel has experienced in the last 3 years.

(3) The nature, number, and severity of any outstanding inspection requirements for the vessel.

(4) The owner or operator's history of compliance and cooperation in the alternative midperiod examination program and the alternative annual inspection program, which includes—

(i) The prompt correction of deficiencies;

(ii) The reliability of previously submitted alternative examination and annual inspection reports; and

(iii) The reliability of representations that the vessel under consideration will be, and other vessels previously examined under this section were, employed outside of the United States for the 3 month period before and after each anniversary date.

(c) If authorization is granted, the officer in Charge, Marine Inspection must provide the applicant written authorization to proceed with the alternative annual inspection, including special instructions when appropriate.

(d) The following conditions must be met for the alternative annual inspection to be accepted by the Coast Guard in lieu of conducting an annual inspection in accordance with § 91.27-1(a) of this subpart.

(1) The alternative annual inspection must be conducted within 3 months before and after each anniversary date.

(2) The alternative annual inspection must be of the scope detailed in § 91.27-1(a) of this subpart and must be conducted by the vessel's master, operator, or a designated representative of the owner or operator.

(3) Upon completion of the alternative annual inspection, the person or persons conducting the inspection must prepare a comprehensive report describing the conditions found. This inspection report must contain sufficient detail to allow an evaluation to be made by the Officer in Charge, Marine Inspection to whom the report is submitted that the vessel is fit for the service and route specified on the certificate of inspection. The report must include reports and receipts documenting the servicing of lifesaving and fire protection equipment, and any photographs or sketches necessary to clarify unusual circumstances. Each person preparing the report must sign it and certify that the information contained therein is complete and accurate.

(4) Unless the vessel's master participated in the alternative annual inspection and the preparation of the inspection report, the master must review the report for completeness and accuracy. The master must sign the report to indicate review and forward it to the vessel's owner or operator who requested authorization to conduct the inspection.

(5) The owner or operator of an offshore supply vessel inspected under this subpart must review and submit the report required by paragraph (d)(3) of this section to the Officer in Charge, Marine Inspection who authorized the owner or operator to conduct the alternative annual inspection. The inspection report must be received by the cognizant Officer in Charge, Marine Inspection before the first day of the fifth month following the anniversary date. The forwarding letter or endorsement must be certified and contain the following information—

(i) That the person or persons who conducted the inspection acted on behalf of the vessel's owner or operator;

(ii) That the inspection report was reviewed by the owner or operator;

(iii) That the discrepancies noted during the during the inspection have been corrected or will be corrected within a stated time frame; and

(iv) That the owner or operator has sufficient personal knowledge of conditions aboard the vessel at the time of the inspection or has made necessary inquiries to justify forming a belief that the inspection report is true and correct.

(e) The form of certification required under this subpart is as follows:

I certify that the above is true and complete to the best of my knowledge and belief.

(f) Deficiencies and hazards discovered during an alternative annual inspection conducted pursuant to this section must be corrected or eliminated, if practical, before the inspection report is submitted to the Officer in Charge, Marine Inspection in accordance with paragraph (d)(5) of this section. Deficiencies and hazards that are not corrected or eliminated by the time the inspection report is submitted must be listed in the report as “outstanding.” Upon receipt of an inspection report indicating outstanding deficiencies or hazards, the Officer in Charge, Marine Inspection will inform the owner or operator of the vessel in writing of the time period in which to correct or eliminate the deficiencies or hazards and the method for establishing that the corrections have been accomplished. Where a deficiency or hazard remains uncorrected or uneliminated after the expiration of the time specified for correction or elimination, the Officer in Charge, Marine Inspection will initiate appropriate enforcement measures.

(g) Upon receipt of the report required by paragraph (d)(3) of this section, the Officer in Charge, Marine Inspection must evaluate it and make the following determination:

(1) Whether the alternative annual inspection is accepted in lieu of the annual inspection required by § 91.27-1(a) of this subpart.

(2) Whether the vessel is in satisfactory condition.

(3) Whether the vessel continues to be reasonably fit for its intended service and route. The Officer in Charge, Marine Inspection may request any additional information needed to make the determinations required by this section. The Officer in Charge, Marine Inspection will inform the owner or operator in writing of the determinations required by this section.

(h) If the Officer in Charge, Marine Inspection determines, in accordance with paragraph (g) of this section, that the alternative annual inspection is not accepted in lieu of the annual inspection required by § 91.27-1(a) of this subpart, the vessel must be reinspected by the cognizant Officer in Charge, Marine Inspection as soon as practical.

(i) If the Officer in Charge, Marine Inspection determines, in accordance with paragraph (g) of this section, that the alternative annual inspection is accepted in lieu of the annual inspection required by § 91.27-1(a) of this subpart, the master must complete the applicable COI endorsement.

§ 91.60-1 [Amended]

49. In § 91.60-1, immediately following the words “international voyage.” add the words “(See § 91.05-10 of this chapter.)”.

50. Revise § 91.60-15 to read as follows:

§ 91.60-15 Cargo Ship Safety Radio Certificate.

Every vessel equipped with a radio installation on an international voyage must have a Cargo Ship Safety Radio Certificate. Each radio installation must meet the requirements of the Federal Communication Commission and the International Convention for Safety of Life at Sea.

51. Revise § 91.60-35 to read as follows:

§ 91.60-35 Availability of Certificates.

The Convention certificates must be on board the vessel and readily available for examination at all times.

52. Revise § 91.60-40 to read as follows:

§ 91.60-40 Duration of Convention certificates.

(a) The following certificates are valid for a period of not more than 60 months.

(1) A Cargo Ship Safety Construction Certificate.

(2) A Cargo Ship Safety Equipment Certificate.

(3) A Safety Management Certificate.

(4) A Cargo Ship Safety Radio Certificate.

(b) An Exemption certificate must not be valid for longer than the period of the certificate to which it refers.

(c) A Convention certificate may be withdrawn, revoked, or suspended at any time when it is determined that the vessel is no longer in compliance with applicable requirements. (See § 2.01-70 of this chapter for procedures governing appeals.)

PART 98—SPECIAL CONSTRUCTION, ARRANGEMENT, AND OTHER PROVISIONS FOR CERTAIN DANGEROUS CARGOES IN BULK

53. Revise the authority citation for part 98 to read as follows:

Authority: 33 U.S.C. 1903; 46 U.S.C. 3306, 3307, 3703; 49 U.S.C. App. 1804; E.O. 12234, 45 FR 58801, 3 CFR, 1980 Comp., p. 277; 49 CFR 1.46.

§ 98.25-95 [Amended]

54. In § 98.25-95(a)(2), remove the words “biennial inspection” and add, in their place, the words, “inspection for certification and periodic inspection”.

PART 107—INSPECTION AND CERTIFICATION

55. Revise the authority citation for part 107 to read as follows:

Authority: 43 U.S.C. 1333; 46 U.S.C. 3306, 3307; 46 U.S.C. 3316; 49 CFR 1.45, 1.46; § 107.05 also issued under the authority of 44 U.S.C. 3507.

56. In § 107.111, add, in alphabetical order, the definition for “anniversary date” to read as follows:

§ 107.111 Definitions.

* * * * *

Anniversary date means the day and the month of each year, which corresponds to the date of expiration of the Certificate of Inspection.

* * * * *

§ 107.201 [Amended]

57. In § 107.201, in paragraph (b) remove the word “Biennial”, capitalize the word “inspection” the first time it appears, and in paragraph (c) remove the word “Reinspection” and add, in its place, the words “Annual and periodic inspections”.

58. Revise § 107.211(d) to read as follows:

§ 107.211 Original Certificate of Inspection.

* * * * *

(d) A Certificate of Inspection is valid for 5 years.

59. In § 107.215—

(a) Revise the section heading to read as set forth below;

(b) In paragraph (a), remove the words “a biennial” and add, in their place, the word “an”;

(c) In paragraph (b), remove the words “60 days” and add, in their place, the words “30 days”;

(d) In paragraph (c) remove the words “biennial inspection” and add, in their place, the words “inspection for certification”; and

(e) Add new paragraph (d) to read as follows:

§ 107.215 Renewal of Certificate of Inspection.

* * * * *

(d) A Certificate of Inspection is valid for 5 years.

§ 107.260 [Amended]

60. In § 107.260(c)(2), remove the number “48” and add, in its place, the number “60”.

61. Revise § 107.269 to read as follows:

§ 107.269 Annual inspection.

(a) Your mobile offshore drilling unit (MODU) must undergo an annual inspection within the 3 months before or after each anniversary date, except as specified in § 107.270.

(b) You must contact the cognizant OCMI to schedule an inspection at a time and place which he or she approves. No written application is required.

(c) The scope of the annual inspection is the same as the inspection for certification as specified in § 107.231, except § 107.231(x) and (y), but in less detail unless the cognizant OCMI finds deficiencies or determines that a major change has occurred since the last inspection. If deficiencies are found or a major change to the MODU has occurred, the OCMI will conduct an inspection more detailed in scope to ensure that the MODU is in satisfactory condition and fit for the service for which it is intended. If your MODU passes the annual inspection, the OCMI will endorse your current Certificate of Inspection.

(d) If the annual inspection reveals deficiencies in your MODU's maintenance, you must make any or all repairs or improvements within the time period specified by the OCMI.

(e) Nothing in this subpart limits the marine inspector from conducting such tests or inspections he or she deems necessary to be assured of the vessel's seaworthiness.

62. Add § 107.270 to read as follows:

§ 107.270 Periodic inspection.

(a) Your vessel must undergo a periodic inspection within 3 months before or after the second or third anniversary of the date of your vessel's Certificate of Inspection. This periodic inspection will take the place of an annual inspection.

(b) You must contact the cognizant OCMI to schedule an inspection at a time and place which he or she approves. No written application is required.

(c) The scope of the periodic inspection is the same as that for the inspection for certification, as specified in § 107.231 except § 107.231(x) and (y). The OCMI will insure that the MODU is in satisfactory condition and fit for the service for which it is intended. If your MODU passes the periodic inspection, the marine inspector will endorse your current Certificate of Inspection.

(d) If the periodic inspection reveals deficiencies in your MODU's maintenance, you must make any or all repairs or improvements within the time period specified by the OCMI.

(e) Nothing in this subpart limits the marine inspector from conducting such tests or inspections he or she deems necessary to be assured of the vessel's seaworthiness.

63. In § 107.279, revise paragraphs (b), (c) and (d) to read as follows:

§ 107.279 Certificate of Inspection: Failure to meet requirements.

* * * * *

(b) Withhold renewal of the Certificate of Inspection until the MODU meets the requirements of § 107.231, except § 107.231(x) and (y).

(c) Suspend a valid Certificate of Inspection after an annual or periodic inspection until the MODU meets the requirements of § 107.231, except § 107.231(x) and (y).

(d) Revoke a valid Certificate of Inspection after an annual or periodic inspection if the unit operates without complying with Coast Guard orders to correct unlawful conditions.

64. Add § 107.283 to subpart B to read as follows:

§ 107.283 Certificate of Inspection: Conditions of validity.

To maintain a valid Certificate of Inspection, you must complete your annual and periodic inspections within the periods specified in §§ 107.269 and 107.270 and your Certificate of Inspection must be endorsed.

§ 107.405 [Amended]

65. In § 107.405(b), remove the words “24 months” and add, in their place, the words “60 months”.

PART 110—GENERAL PROVISIONS

66. Revise the authority citation for part 110 to read as follows:

Authority: 33 U.S.C. 1509; 43 U.S.C 1333; 46 U.S.C. 3306, 3307, 3703; E.O. 12234, 45 FR 58801, 3 CFR, 1980 Comp., p.277; 49 CFR 1.45, 1.46; § 110.01-2 also issued under 44 U.S.C. 3507.

67. Revise § 110.30-5 to read as follows:

§ 110.30-5 Inspection for certification.

Electric installations and electric equipment must be inspected at the inspection for certification and periodic inspection to determine mechanical and electrical condition and performance. Particular note must be made of circuits added or modified after the original issuance of the Certificate of Inspection.

PART 114—GENERAL PROVISIONS

68. Revise the authority citation for part 114 to read as follows:

Authority: 46 U.S.C. 2103, 3306, 3307, 3703; 49 U.S.C. App. 1804; 49 CFR 1.45, 1.46. Section 114.900 also issued under 44 U.S.C. 3507.

69. In § 114.400(b), add, in alphabetical order, the definition for “anniversary date” to read as follows:

§ 114.400 Definition of terms used in this subchapter.

* * * * *

(b) * * *

Anniversary date means the day and the month of each year, which corresponds to the date of expiration of the Certificate of Inspection.

* * * * *

PART 115—INSPECTION AND CERTIFICATION

70. Revise the authority citation for part 115 to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; 49 CFR 1.46.

§ 115.105 [Amended]

71. In § 115.105(e), in the second sentence, remove the word “periodic”.

72. Revise § 115.107 to read as follows:

§ 115.107 Period of validity for a Certificate of Inspection.

(a) A Certificate of Inspection is valid for 1 year for vessels carrying more than 12 passengers on international voyages.

(b) A Certificate of Inspection is valid for 5 years for all other vessels.

(c) A Certificate of Inspection may be suspended and withdrawn or revoked by the cognizant OCMI at any time for noncompliance with the requirements of this subchapter.

73. In § 115.404, redesignate existing text as paragraph (a) and add paragraph (b) to read as follows:

§ 115.404 Subsequent inspections for certification.

* * * * *

(b) You must submit your written application for renewal of a Certificate of Inspection to the OCMI at least 30 days prior to the expiration date of the your current COI, as required in § 115.105.

74. Revise § 115.500 to read as follows:

§ 115.500 When required.

(a) Vessels carrying more than 12 passengers on international voyages must undergo an inspection for certification each year as specified in § 115.404.

(b) All other vessels must undergo an inspection for certification as specified in § 115.404 and an annual inspection as specified in paragraph (b)(1) of this section.

(1) Annual inspection. Your vessel must undergo an annual inspection within the 3 months before or after each anniversary date.

(i) You must contact the cognizant OCMI to schedule an inspection at a time and place which he or she approves. No written application is required.

(ii) The scope of the annual inspection is the same as the inspection for certification, as specified in § 115.404 but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(iii) If the annual inspection reveals deficiencies in your vessel's maintenance, you must make any or all repairs or improvements within the time period specified by the OCMI.

(iv) Nothing in this subpart limits the marine inspector from conducting such tests or inspections he or she deems necessary to be assured of the vessel's seaworthiness.

(2) [Reserved]

75. Revise § 115.502 to read as follows:

§ 115.502 Certificate of Inspection: Conditions of validity.

To maintain a valid Certificate of Inspection, you must complete your annual inspections within the periods specified in § 115.500 and your Certificate of Inspection must be endorsed.

§ 115.812 [Amended]

76. Section 115.812(a), remove the words “; except that, they must be inspected once every 3 years instead of at the intervals in § 61.10-5(a), (b), and (d) of this chapter”.

PART 125—GENERAL

77. The authority citation for part 125 continues to read as follows:

Authority: 46 U.S.C. 2103, 3306, 3307; 49 U.S.C. App. 1804; 49 CFR 1.46.

§ 125.160 [Amended]

78. In § 125.160, add, in alphabetical order, the definition of “anniversary date” to read as follows:

§ 125.160 Definitions.

* * * * *

Anniversary date means the day and the month of each year, which corresponds to the date of expiration of the Certificate of Inspection.

* * * * *

PART 126—INSPECTION AND CERTIFICATION

79. Revise the authority citation for part 126 to read as follows:

Authority: 46 U.S.C. 3205, 3306, 3307; 33 U.S.C. 1321(j); E.O. 11735, 38 FR 21243, 3 CFR 1971-1975 Comp., p. 793; 49 CFR 1.46.

§ 126.250 [Amended]

80. In § 126.250, in the section heading, immediately following the word “validity” add the words “for a Certificate of Inspection”; and in paragraph (a), remove the number “2” and add, in its place, the number “5”.

81. Revise § 126.420 to read as follows:

§ 126.420 Application for Certificate of Inspection.

You must submit a written application for an inspection for certification to the cognizant OCMI. To renew a Certificate of Inspection, you must submit an application at least 30 days before the expiration of the tank vessel's current certificate. You must use Form CG-3752, Application for Inspection of U.S. Vessel, and submit it to the OCMI at, or nearest to, the port where the vessel is located. When renewing a Certificate of Inspection, you must schedule an inspection for certification within the 3 months before the expiration date of the current Certificate of Inspection.

82. Revise subpart E to read as follows:

Subpart E—Annual, Periodic, and Alternative Annual Inspections

Sec.
126.510 Annual and periodic inspections.
126.520 Certificate of Inspection: Conditions of validity.
126.530 Alternative annual inspection for offshore supply vessels less than 400 gross tons in foreign ports.

§ 126.510 Annual and periodic inspections.

(a) Annual inspection.Your vessel must undergo an annual inspection within 3 months before or after each anniversary date, except as required in paragraph (b) of this section.

(1) You must contact the cognizant OCMI to schedule an inspection at a time and place which he or she approves. No written application is required.

(2) The scope of the annual inspection is the same as the inspection for certification as specified in § 126.430, but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(3) If the annual inspection reveals deficiencies in your vessel's maintenance, you must make any or all repairs or improvements within the time period specified by the OCMI.

(4) Nothing in this subpart limits the marine inspector from making such tests or inspections he or she deems necessary to be assured of the vessel's seaworthiness.

(b) Periodic inspection. Your vessel must undergo a periodic inspection within 3 months before or after the second or third anniversary of the date of your vessel's Certificate of Inspection. This periodic inspection will take the place of an annual inspection.

(1) You must contact the cognizant OCMI to schedule an inspection at a time and place which he or she approves. No written application is required.

(2) The scope of the periodic inspection is the same as that for the inspection for certification, as specified in § 126.430. The OCMI will insure that the vessel is in satisfactory condition and fit for the service for which it is intended. If your vessel passes the periodic inspection, the marine inspector will endorse your current Certificate of Inspection.

(3) If the periodic inspection reveals deficiencies in your vessel's maintenance, you must make any or all repairs or improvements within the time period specified by the OCMI.

(4) Nothing in this subpart limits the marine inspector from conducting such tests or inspections he or she deems necessary to be assured of the vessel's seaworthiness.

§ 126.520 Certificate of Inspection: Conditions of validity.

To maintain a valid Certificate of Inspection, you must complete your annual and periodic inspections within the periods specified in § 126.510 (a) and (b) and your Certificate of Inspection must be endorsed.

§ 126.530 Alternative annual inspection for offshore supply vessels less than 400 gross tons in foreign ports.

(a) The owner, master or operator of an OSV of less than 400 gross tons may request authorization to conduct an alternative annual inspection in place of the annual inspection described in § 126.510(a) of this subpart. The request must go to the cognizant OCMI assigned responsibility for inspections in the country in which the vessel is operating and will be examined. To qualify for the alternative annual examination, the vessel must meet the following requirements:

(1) The request must be in writing and be received by the OCMI not later than the anniversary date.

(2) The vessel is likely to be continuously employed outside of the United States during the 3 months before and after each anniversary date.

(b) In determining whether to authorize the alternative annual inspection, the OCMI considers the following:

(1) Information contained in previous examination reports on inspection and drydock, including the recommendation of the then cognizant OCMI for participation in the alternative midperiod program and alternative annual examination.

(2) The nature, number, and severity of marine casualties or accidents, as defined in § 4.03-1 of this chapter, involving the vessel in the 3 years preceding the request.

(3) The nature, number, and gravity of any outstanding inspection requirements for the vessel.

(4) The owner's or operator's history of compliance and cooperation in such alternative midperiod examinations and annual inspections, including:

(i) The prompt correction of deficiencies.

(ii) The reliability of previously submitted reports on such alternative midperiod examinations and annual inspections.

(iii) The reliability of representations that the vessel would be, and was, employed outside of the United States during the 3 months before and after each anniversary date.

(c) This OCMI provides the applicant with written authorization, if any, to proceed with the alternative annual inspection, including, when appropriate, special instructions.

(d) The following conditions must be met for the alternative annual inspection to be accepted instead of the annual inspection required by § 126.510 of this subpart:

(1) The alternative annual inspection must occur within the 3 months before or after each anniversary date.

(2) The alternative annual inspection must be of the scope detailed by § 126.510(a) of this subchapter and must be conducted by the master, owner or operator of the vessel, or by a designated representative of the owner or operator.

(3) Upon completion of the alternative annual inspection, the person or persons making the examination must prepare a comprehensive report describing the conditions found. This report must contain sufficient detail to let the OCMI determine whether the vessel is fit for the service and route specified on the Certificate of Inspection. This report must include all reports and receipts documenting the servicing of lifesaving equipment and any photographs or sketches necessary to clarify unusual circumstances. Each person preparing this report must sign it and certify that the information contained therein is complete and accurate.

(4) Unless the master of the vessel participated in the alternative annual inspection and the preparation of the comprehensive report, the master will review the report for completeness and accuracy. The master must sign the report to indicate his or her review and validation and must forward it to the owner or operator of the vessel.

(5) The owner or operator of a vessel examined under this section must review and submit the comprehensive report, required by paragraph (d)(3) of this section, to the OCMI. The report must reach the OCMI before the first day of the fifth month following the anniversary date. The forwarding letter or endorsement must be certified to be true and must contain the following information:

(i) That the person or persons who made the alternative annual inspection acted on behalf of the vessel's owner or operator.

(ii) That the report was reviewed by the owner or operator.

(iii) That the discrepancies noted during the reinspection have been corrected, or will be within a stated time.

(iv) That the owner or operator has sufficient personal knowledge of conditions aboard the vessel at the time of the reinspection, or has conducted inquires necessary to justify forming a belief that the report is complete and accurate.

(e) The form of certification required under this section, for the alternative annual inspection, is as follows:

I certify that to the best of my knowledge and belief the information contained in the report is complete and accurate.

(f) Deficiencies and hazards discovered during the alternative annual inspection conducted pursuant to this section must be corrected or eliminated, if practical, before the examination report is submitted to the OCMI in accordance with paragraph (d)(5) of this section. Deficiencies and hazards that are not corrected or eliminated by the time the examination report is submitted must be listed in the report as “outstanding.” Upon receipt of an examination report indicating outstanding deficiencies or hazards, the OCMI must inform the owner or operator in writing of the time period within which to correct or eliminate the deficiencies or hazards and the method for establishing that the corrections have been accomplished. Where a deficiency or hazard remains uncorrected or uneliminated after the expiration of the time specified for correction or elimination, the Officer in Charge, Marine Inspection must initiate appropriate enforcement measures.

(g) Upon receipt of the report, the OCMI will evaluate it and determine the following:

(1) Whether the cognizant OCMI accepts the alternative annual inspection instead of the annual inspection required by § 126.510(a) of this subpart.

(2) Whether the vessel is in satisfactory condition.

(3) Whether the vessel continues to be reasonably fit for its intended service and route.

(h) The OCMI may require further information necessary for the determinations required by this section. The OCMI will inform the owner or operator in writing of these determinations.

(i) If the OCMI, in compliance with paragraph (g) of this section, does not accept the alternative annual inspection instead of the annual inspection required by § 126.510(a) of this subpart, he or she will require reinspection of the vessel as soon as practicable. He or she will inform the vessel owner or operator in writing that the alternative examination is not acceptable and that a reinspection is necessary. The owner, master, or operator must make the vessel available for the reinspection at a time and place agreeable to this OCMI.

(j) If the OCMI determines, in accordance with paragraph (g) of this section, that the alternative annual inspection is accepted in lieu of the annual inspection required by § 126.510(a) of this subpart, the master must complete the applicable COI endorsement.

PART 132—FIRE-PROTECTION EQUIPMENT

83. Revise the authority citation for part 132 to read as follows:

Authority: 46 U.S.C. 3306, 3307; 449 CFR 1.46.

§ 132.350 [Amended]

84. In § 132.350(a)(2), after the words “inspection for certification” add the words “and periodic inspection”.

PART 133—LIFESAVING SYSTEMS

85. Revise the authority citation for part 133 to read as follows:

Authority: 46 U.S.C. 3306, 3307; 449 CFR 1.46.

§ 133.45 [Amended]

86. In § 133.45(b), after the words “inspection for renewal of certification” add the words “and periodic inspection”.

PART 134—ADDED PROVISIONS FOR LIFTBOATS

87. Revise the authority citation for part 134 to read as follows:

Authority: 46 U.S.C. 3306, 3307; 449 CFR 1.46.

§ 134.120 [Amended]

88. In § 134.120, after the words “inspection for certification” add the words “and periodic inspection”.

PART 167—PUBLIC NAUTICAL SCHOOL SHIPS

89. Revise the authority citation for part 167 to read as follows:

Authority: 46 U.S.C. 3306, 3307, 6101, 8105; E.O. 12234, 45 FR 58801, 3 CFR, 1980 Comp., p. 277; 49 CFR 1.46.

90. In § 167.15-20, designate existing text as paragraph (a) and add paragraph (b) to read as follows:

§ 167.15-20 Inspections of nautical school ships.

* * * * *

(b) To renew a Certificate of Inspection, you must submit an application at least 30 days before the expiration of the vessel's current certificate.

PART 169—SAILING SCHOOL VESSELS

91. Revise the authority citation for part 169 to read as follows:

Authority: 33 U.S.C. 1321(j); 46 U.S.C. 3306, 3307, 6101; E.O. 11735, 38 FR 21243, 3 CFR, 1971-1975 Comp., p. 793; 49 CFR 1.45, 1.46; § 169.117 also issued under the authority of 44 U.S.C. 3507.

92. In § 169.107, redesignate paragraphs (a) through (y) as paragraphs (b) through (z), respectively, and add new paragraph (a) to read as follows:

§ 169.107 Definitions.

(a) Anniversary date means the day and the month of each year, which corresponds to the date of expiration of the Certificate of Inspection.

* * * * *

93. In § 169.205, revise section heading and paragraph (d) to read as follows:

§ 169.205 Obtaining or renewing a Certificate of Inspection.

* * * * *

(d) You must submit a written application for an inspection for certification to the cognizant Officer in Charge, Marine Inspection. To renew a Certificate of Inspection, you must submit an application at least 30 days before the expiration of the vessel's current certificate. Applications are available at any U.S. Coast Guard Marine Safety Office or Marine Inspection Office. When renewing a Certificate of Inspection, you must schedule an inspection for certification within the 3 months before the expiration date of the current Certificate of Inspection.

* * * * *

94. In § 169.207, revise section heading and paragraph (a) to read as follows:

§ 169.207 Period of validity for a Certificate of Inspection.

(a) A Certificate of Inspection is valid for 5 years.

* * * * *

95. Revise § 169.225 to read as follows:

§ 169.225 Annual inspection.

(a) Your vessel must undergo an annual inspection within 3 months before or after each anniversary date, except as specified in § 169.226.

(b) You must contact the cognizant Officer in Charge, Marine Inspection to schedule an inspection at a time and place which he or she approves. No written application is required.

(c) The scope of the annual inspection is the same as the inspection for certification as specified in § 169.222 but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(d) If the annual inspection reveals deficiencies in your vessel's maintenance, you must make any or all repairs or improvements within the time period specified by the Officer in Charge, Marine Inspection.

(e) Nothing in this subpart limits the marine inspector from conducting such tests or inspections he or she deems necessary to be assured of the vessel's seaworthiness.

96. Add § 169.226 to read as follows:

§ 169.226 Periodic inspection.

(a) Your vessel must undergo a periodic inspection within 3 months before or after the second or third anniversary of the date of your vessel's Certificate of Inspection. This periodic inspection will take the place of an annual inspection.

(b) You must contact the cognizant Officer in Charge, Marine Inspection to schedule an inspection at a time and place which he or she approves. No written application is required.

(c) The scope of the periodic inspection is the same as that for the inspection for certification, as specified in § 169.222. The Officer in Charge, Marine Inspection will insure that the vessel is in satisfactory condition and fit for the service for which it is intended. If your vessel passes the periodic inspection, the marine inspector will endorse your current Certificate of Inspection.

(d) If the periodic inspection reveals deficiencies in your vessel's maintenance, you must make any or all repairs or improvements within the time period specified by the Officer in Charge, Marine Inspection.

(e) Nothing in this subpart limits the marine inspector from conducting such tests or inspections he or she deems necessary to be assured of the vessel's seaworthiness.

97. Revise § 169.227 to read as follows:

§ 169.227 Certificate of Inspection: Conditions of validity.

To maintain a valid Certificate of Inspection, you must complete your annual and periodic inspections within the periods specified in §§ 169.225 and 169.226 respectively and your Certificate of Inspection must be endorsed.

§ 169.239 [Amended]

98. In § 169.239, after the words “inspection for certification” add the words “and periodic inspection”.

99. Revise § 169.241(a) introductory text to read as follows:

§ 169.241 Machinery.

(a) At each inspection for certification and periodic inspection, the marine inspector will examine and test the following items to the extent necessary, to determine that they are in proper operating condition and fit for the service for which they are intended:

* * * * *

100. Revise the introductory text in § 169.243 to read as follows:

§ 169.243 Electrical.

At each inspection for certification and periodic inspection, the marine inspector will examine and test the following items to the extent necessary, to determine that they are in proper operating condition, in safe electrical condition, and fit for the service for which they are intended:

* * * * *

101. Revise the introductory text in § 169.245 to read as follows:

§ 169.245 Lifesaving equipment.

At each inspection for certification and periodic inspection the following tests and inspections of lifesaving equipment will be conducted:

* * * * *

§ 169.247 [Amended]

102. In § 169.247(a), after the words “inspection for certification” add the words “and periodic inspection”.

§ 169.251 [Amended]

103. In § 169.251, after the words “inspection for certification” add the words “and periodic inspection”.

§ 169.253 [Amended]

104. In § 169.253(a), after the words “inspection for certification” add the words “and periodic inspection”.

§ 169.255 [Amended]

105. In § 169.255, after the words “inspection for certification” remove the words “and reinspection” and, in their place, add the words “, periodic inspection, and annual inspection”.

§ 169.257 [Amended]

106. In § 169.257(a) remove the word “, reinspection” and in § 169.257(a) and (b), after the words “inspection for certification” add the words “, periodic inspection, annual inspection,”.

PART 175—GENERAL PROVISIONS

107. Revise the authority citation for part 175 to read as follows:

Authority: 46 U.S.C. 2103, 3205, 3306, 3307, 3703; 49 U.S.C. App. 1804; 49 CFR 1.45, 1.46; 175.900 also issued under authority of 44 U.S.C. 3507.

108. In § 175.400, add, in alphabetical order, the definition for “anniversary date” to read as follows:

§ 175.400 Definition of terms used in this subchapter.

* * * * *

Anniversary date means the day and the month of each year, which corresponds to the date of expiration of the Certificate of Inspection.

* * * * *

PART 176—INSPECTION AND CERTIFICATION

109. Revise the authority citation for part 176 to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; 49 CFR 1.46.

110. Revise § 176.107 to read as follows:

§ 176.107 Period of validity for a Certificate of Inspection.

(a) A Certificate of Inspection is valid for 1 year for vessels carrying more than 12 passengers on international voyages.

(b) A Certificate of Inspection is valid for 5 years for all other vessels.

(c) A Certificate of Inspection may be suspended and withdrawn or revoked by the cognizant OCMI at any time for noncompliance with the requirements of this subchapter.

111. In § 176.404, redesignate the existing text as paragraph (a) and add paragraph (b) to read as follows:

§ 176.404 Subsequent inspections for certification.

* * * * *

(b) You must submit your written application for renewal of a Certificate of Inspection to the OCMI at least 30 days prior to the expiration date of the Certificate of Inspection, as required in § 176.105 of this part.

112. Revise § 176.500 to read as follows:

§ 176.500 When required.

(a) Vessels carrying more than 12 passengers on international voyages must undergo an inspection for certification each year as specified in § 176.404.

(b) All other vessels must undergo an inspection for certification as specified in § 176.404 and annual inspection as specified in paragraph (b)(1) of this section.

(1) Annual inspection. Your vessel must undergo an annual inspection within the 3 months before or after each anniversary date.

(i) You must contact the cognizant OCMI to schedule an inspection at a time and place which he or she approves. No written application is required.

(ii) The scope of the annual inspection is the same as the inspection for certification but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(iii) If the annual inspection reveals deficiencies in your vessel's maintenance, you must make any or all repairs or improvements within the time period specified by the OCMI.

(iv) Nothing in this subpart limits the marine inspector from conducting such tests or inspections he or she deems necessary to be assured of the vessel's seaworthiness.

(2) [Reserved]

113. Revise § 176.502 to read as follows:

§ 176.502 Certificate of Inspection: Conditions of validity.

To maintain a valid Certificate of Inspection, you must complete your annual inspection within the periods specified in § 176.500(b)(1) and your Certificate of Inspection must be endorsed.

§ 176.812 [Amended]

114. In § 176.812, in paragraph (a), remove the words “; except that, they must be inspected once every 3 years instead of at the intervals in § 61.10-5(a), (b), and (d) of this chapter”; and, in paragraph (b), remove the number “§ 61.10” and add, in its place, the number “§ 61.05”.

PART 188—GENERAL PROVISIONS

115. Revise the authority citation for part 188 to read as follows:

Authority: 46 U.S.C. 2113, 3306, 3307; 49 U.S.C. App. 5103, 5106; E.O. 12234, 45 FR 58801, 3 CFR, 1980 Comp., p. 277; 49 CFR 1.46.

§ 188.10-1 [Redesignated as § 188.10-2]

116. Redesignate § 188.10-1 as § 188.10-2 and add new § 188.10-1 to read as follows:

§ 188.10-1 Anniversary date.

The term anniversary date means the day and the month of each year, which corresponds to the date of expiration of the Certificate of Inspection.

PART 189—INSPECTION AND CERTIFICATION

117. Revise the authority citation for part 189 to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; 49 CFR 1.46.

§ 189.01-10 [Amended]

118. In § 189.01-10—

a. In the section heading, immediately following the word “validity” add the words “for a Certificate of Inspection”;

b. In paragraph (a), remove the first sentence and add, in its place, the sentence “A Certificate of Inspection is valid for 5 years.”; and

c. In paragraph (c)(2), remove the words “in no case to exceed 2 years” and add, in their place, the words “not to exceed 5 years”.

119. Revise § 189.25-5 to read as follows:

§ 189.25-5 Application for a Certificate of Inspection.

You must submit a written application for an inspection for certification to the cognizant OCMI. To renew a Certificate of Inspection, you must submit an application at least 30 days before the expiration of the tank vessel's current certificate. You must use Form CG-3752, Application for Inspection of U.S. Vessel, and submit it to the OCMI at, or nearest to, the port where the vessel is located. When renewing a Certificate of Inspection, you must schedule an inspection for certification within the 3 months before the expiration date of the current Certificate of Inspection.

§ 189.25-20 [Amended]

120. In § 189.25-20(a) introductory text, in the first sentence, remove the words “inspection for certification and” add, in their place, the words “inspection for certification, periodic inspection, and”; and, in the last sentence, immediately following the words “inspection for certification” add the words “and periodic inspection”.

§ 189.25-25 [Amended]

121. In § 189.25-25(a), after the words “inspection for certification” add the words “and periodic inspection”.

§ 189.25-38 [Amended]

122. In § 189.25-38, after the words “inspection for certification” add the words “and periodic inspection”.

§ 189.25-40 [Amended]

123. In § 189.25-40, after the words “inspection for certification” add the words “and periodic inspection”.

§ 189.25-45 [Amended]

124. In § 189.25-45, remove the designation for paragraph (a), and after the words “inspection for certification” add the words “and periodic inspection”.

§ 189.25-47 [Amended]

125. In § 189.25-47(a) and (b), after the words “inspection for certification.” add the words “and periodic inspection.”.

Subpart 189.27—Annual and Periodic Inspections

126. In subpart 189.27, revise the subpart heading to read as set forth above.

127. Revise § 189.27-1 to read as follows:

§ 189.27-1 Annual inspection.

(a) Your vessel must undergo an annual inspection within the 3 months before or after each anniversary date, except as specified in § 189.27-5.

(b) You must contact the cognizant OCMI to schedule an inspection at a time and place which he or she approves. No written application is required.

(c) The scope of the annual inspection is the same as the inspection for certification, as specified in § 189.25-10, but in less detail unless the cognizant marine inspector finds deficiencies or determines that a major change has occurred since the last inspection. If deficiencies are found or a major change to the vessel has occurred, the marine inspector will conduct an inspection more detailed in scope to ensure that the vessel is in satisfactory condition and fit for the service for which it is intended. If your vessel passes the annual inspection, the marine inspector will endorse your current Certificate of Inspection.

(d) If the annual inspection reveals deficiencies in your vessel's maintenance, you must make any or all repairs or improvements within the time period specified by the OCMI.

(e) Nothing in this subpart limits the marine inspector from conducting such tests or inspections he or she deems necessary to be assured of the vessel's seaworthiness.

128. Revise § 189.27-5 to read as follows:

§ 189.27-5 Periodic inspection.

(a) Your vessel must undergo a periodic inspection within 3 months before or after the second or third anniversary of the date of your vessel's Certificate of Inspection. This periodic inspection will take the place of an annual inspection.

(b) You must contact the cognizant OCMI to schedule an inspection at a time and place which he or she approves. No written application is required.

(c) The scope of the periodic inspection is the same as that for the inspection for certification, as specified in § 189.25-10. The OCMI will insure that the vessel is in satisfactory condition and fit for the service for which it is intended. If your vessel passes the periodic inspection, the marine inspector will endorse your current Certificate of Inspection.

(d) If the periodic inspection reveals deficiencies in your vessel's maintenance, you must make any or all repairs or improvements within the time period specified by the OCMI.

(e) Nothing in this subpart limits the marine inspector from conducting such tests or inspections he or she deems necessary to be assured of the vessel's seaworthiness.

129. Revise § 189.27-10 to read as follows:

§ 189.27-10 Certificate of Inspection: Conditions of validity.

To maintain a valid Certificate of Inspection, you must complete your annual and periodic inspections within the periods specified in §§ 189.27-1 and 189.27-5 respectively, and your Certificate of Inspection must be endorsed.

130. Revise § 189.60-15 to read as follows:

§ 189.60-15 Cargo Ship Safety Radio Certificate.

Every vessel equipped with a radio installation on an international voyage must have a Cargo Ship Safety Radio Certificate. Each radio installation must meet the requirements of the Federal Communication Commission and the International Convention for Safety of Life at Sea.

131. Revise § 189.60-35 to read as follows:

§ 189.60-35 Availability of Certificates.

The Convention certificates must be on board the vessel and readily available for examination at all times.

132. Revise § 189.60-40 to read as follows:

§ 189.60-40 Duration of Convention certificates.

(a) The following certificates are valid for a period of not more than 60 months (5 years).

(1) A Cargo Ship Safety Construction Certificate.

(2) A Cargo Ship Safety Equipment Certificate.

(3) A Safety Management Certificate.

(4) A Cargo Ship Safety Radio Certificate.

(b) An Exemption certificate must not be valid for longer than the period of the certificate to which it refers.

(c) A Convention certificate may be withdrawn, revoked, or suspended at any time when it is determined that the vessel is no longer in compliance with applicable requirements. (See § 2.01-70 of this chapter for procedures governing appeals.)

PART 195—VESSEL CONTROL AND MISCELLANEOUS SYSTEMS AND EQUIPMENT

133. Revise the authority citation for part 195 to read as follows:

Authority: 46 U.S.C. 2113, 3306, 3307; 49 U.S.C. App. 1804; E.O. 12234, 45 FR 58801, 3 CFR, 1980 Comp., p. 277; 49 CFR 1.46.

134. Revise § 195.11-15 (a) to read as follows:

§ 195.11-15 Plan approval and inspection.

(a) Accommodation, power and chemical stores vans are subject to normal plan submission procedures of subpart 189.55 and to initial construction inspection. They must be inspected at each inspection for certification and periodic inspection.

* * * * *

PART 199—LIFESAVING SYSTEMS FOR CERTAIN INSPECTED VESSELS

135. Revise the authority citation for part 199 to read as follows:

Authority: 46 U.S.C. 3306, 3307, 3703; 46 CFR 1.46.

§ 199.45 [Amended]

136. In § 199.45(b), immediately following the words “renewal of certification” add the words “and periodic inspection”.

Dated: February 2, 2000.
Joseph J. Angelo,
Acting Assistant Commandant for Marine Safety and Environmental Protection.

[FR Doc. 00-2812 Filed 2-4-00; 3:40 pm]

BILLING CODE 4910-15-U